NUCLEAR REGULATORY COMMISSION

[Docket No. 70-7033; EISX-429-00-000-1754990851; NRC-2025-1007]

Global Laser Enrichment, LLC; Paducah Laser Enrichment Facility; Notice of Intent To Conduct Scoping Process and Prepare Environmental Impact Statement

AGENCY: Nuclear Regulatory Commission.

ACTION: Notice; request for comment.

SUMMARY: The U.S. Nuclear Regulatory Commission (NRC) will conduct a scoping process to gather information necessary to prepare an environmental impact statement (EIS) to evaluate the environmental impacts of issuing a license to Global Laser Enrichment, LLC (GLE) to construct and operate a uranium enrichment facility in McCracken County, Kentucky. As part of the EIS development process, the NRC is seeking comments on the scope of the EIS.

DATES: Submit comments on the scope of the EIS by October 6, 2025. Comments received after this date will be considered if it is practical to do so, but the NRC is able to ensure consideration only for comments received on or before this date.

ADDRESSES: You may submit comments by any of the following methods; however, the NRC encourages electronic comment submission through the Federal rulemaking website.

• Federal rulemaking website: Go to https://www.regulations.gov and search for Docket ID NRC-2025-1007. Address questions about Docket IDs in Regulations.gov to Bridget Curran; telephone: 301-415-1003; email: Bridget.Curran@nrc.gov. For technical questions, contact the individual(s) listed in the For Further Information Contact section of this document.

• Email comments to: Comments may be submitted to the NRC electronically using the email address: GLE-PLEF-EIS@nrc.gov.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Amy Minor, Office of Nuclear Material Safety and Safeguards, U.S. Nuclear Regulatory Commission, Washington, DC 20555-0001; telephone: 817-200-1454; email: Amy.Hesterminor@nrc.gov.

SUPPLEMENTARY INFORMATION:

I. Obtaining Information and Submitting Comments

A. Obtaining Information

Please refer to Docket ID NRC-2025-1007 when contacting the NRC about the availability of information regarding this action. You may obtain publicly available information related to this action by any of the following methods:

• Federal Rulemaking Website: Go to https://www.regulations.gov and search for Docket ID NRC-2025-1007.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: A copy of the environmental report for the GLE license application is available for review at the McCracken County Public Library, 555 Washington St., Paducah, KY 42003.

B. Submitting Comments

The NRC encourages electronic comment submission through the Federal rulemaking website (https://www.regulations.gov). Please include Docket ID NRC-2025-1007 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

By letters dated June 13, 2025 (ADAMS Package Accession No. ML25164A077) and June 27, 2025 (ADAMS Package Accession No. ML25179A000), GLE submitted to the NRC an application for a license to construct and operate a uranium enrichment facility in McCracken County, Kentucky, to be known as the Paducah Laser Enrichment Facility (PLEF). The requested license would authorize GLE to receive title to, own, acquire, receive, possess, use, transfer, and/or deliver source material, special nuclear material, and byproduct material as specified in the license for the purposes of constructing, and then operating for up to 40 years, a facility that uses laser-based isotope separation technology to enrich uranium. The requested license would authorize the PLEF to re-enrich depleted uranium hexafluoride (UF6) tails and enrich natural-grade UF6 to a maximum of 8 weight percent uranium-235.

The GLE PLEF would be located in McCracken County, Kentucky, northeast of the intersection of Hobbs Road and State Route 725/Woodville Road on undeveloped property abutting southern portions of the U.S. Department of Energy Paducah Gaseous Diffusion Plant. The site is situated in a rural area on privately owned land zoned for heavy industry, on an approximately 130-hectare (322-acre) greenfield site. The applicant's environmental report can be found in ADAMS Package Accession No. ML25164A077.

The NRC staff completed an acceptance review of GLE's license application and determined it contains sufficient information for the NRC to conduct a detailed technical review. An acceptance letter was issued to GLE on August 4, 2025 (ADAMS Accession No. ML25202A201).

III. Request for Comment

This notice informs the public of the NRC's intention to conduct environmental scoping and prepare an EIS regarding the license application for the PLEF in accordance with part 51 of title 10 of the Code of Federal Regulations (10 CFR), “Environmental Protection Regulations for Domestic Licensing and Related Regulatory Functions.” This notice also provides the public an opportunity to participate in the environmental scoping process, as defined in 10 CFR 51.29, “Scoping-environmental impact statement and supplement to environmental impact statement.”

The EIS will address the potential impacts from the proposed action and its alternatives. As part of its environmental review, the NRC will first conduct a scoping process and, as soon as practicable thereafter, will prepare a draft EIS for public comment. Participation in this scoping process by members of the public and local, State, Tribal, and Federal government agencies is encouraged. While the NRC will not hold a public scoping meeting, persons may participate in the scoping process by submitting written comments, as explained in this notice, regarding the appropriate scope of the EIS, including significant environmental issues to be analyzed in depth, as well as those that should be eliminated from detailed study because they are peripheral or are not significant. In accordance with 10 CFR 51.29, the scoping process for the draft EIS will be used to accomplish the following:

a. Define the proposed action that is to be the subject of the EIS;

b. Determine the scope of the EIS and identify the significant issues to be analyzed in depth;

c. Identify and eliminate from the detailed study those issues that are peripheral or are not significant or that have been covered by prior environmental review;

d. Identify any environmental assessments and other ElSs that are being or will be prepared that are related to, but are not part of, the scope of the EIS under consideration;

e. Identify other environmental review and consultation requirements related to the proposed action;

f. Indicate the relationship between the timing of the preparation of the environmental analyses and the NRC's tentative planning and decision-making schedule;

g. Identify any cooperating agencies and, as appropriate, allocate assignments for preparation and schedules for completing the EIS to the NRC and any cooperating agencies; and

h. Describe how the EIS will be prepared, including any contractor assistance to be used.

In accordance with 10 CFR 51.28, “Scoping—participants,” the NRC invites the following persons to participate in the scoping process:

a. The applicant, GLE;

b. Any Federal agency that has jurisdiction by law or special expertise with respect to any environmental impact involved or that is authorized to develop and enforce relevant environmental standards;

c. Affected State and local government agencies, including those authorized to develop and enforce relevant environmental standards;

d. Any affected Indian Tribe;

e. Any person who requests or has requested an opportunity to participate in the scoping process; and

f. Any person who has petitioned or intends to petition for leave to intervene under 10 CFR 2.309.

Participation in the scoping process for the PLEF EIS does not entitle participants to become parties to the proceeding to which PLEF EIS relates.

After the close of the scoping period, the NRC staff will prepare a concise summary of its scoping process, the comments received, as well as the NRC's responses to substantive comments. The summary will be made available to the public as an appendix to the draft EIS and will be sent to each participant in the scoping process for whom the NRC staff has an email or mailing address.

The NRC staff will also have a public comment period for the draft EIS. Availability of the draft EIS and the dates of the public comment period will be announced in a future Federal Register notice. The final EIS will include the NRC's responses to public comments received on the draft EIS.

Dated: September 2, 2025.
For the Nuclear Regulatory Commission.
Robert Sun,
Chief, Environmental Project Management, Branch 2, Division of Rulemaking, Environmental, and Financial Support, Office of Nuclear Material Safety and Safeguards.

[FR Doc. 2025-17007 Filed 9-4-25; 8:45 am]

BILLING CODE 7590-01-P